COMMODITY FUTURES TRADING COMMISSION

Sunshine Act Meetings

Time and Date: 10:00 a.m., Friday, February 26, 2016.

Place: Three Lafayette Centre, 1155 21st Street NW., Washington, DC, 9th Floor Commission Conference Room.

Status: Closed.

Matters to be Considered: Surveillance, enforcement, and examinations matters. In the event that the time, date, or location of this meeting changes, an announcement of the change, along with the new time, date, and/or place of the meeting will be posted on the Commission's Web site at http://www.cftc.gov.

Contact Person for More Information: Christopher Kirkpatrick, 202-418-5964.

Natise Allen,
Executive Assistant.

[FR Doc. 2016-03595 Filed 2-17-16; 4:15 pm]

BILLING CODE 6351-01-P